DEPARTMENT OF HOMELAND SECURITY

U.S. Customs and Border Protection

[1651-0105]

Agency Information Collection Activities: Application To Use the Automated Commercial Environment (ACE)

AGENCY: U.S. Customs and Border Protection, Department of Homeland Security.

ACTION: 30-Day notice and request for comments; Extension and revision of an existing collection of information.

SUMMARY: U.S. Customs and Border Protection (CBP) of the Department of Homeland Security will be submitting the following information collection request to the Office of Management and Budget (OMB) for review and approval in accordance with the Paperwork Reduction Act: Application to Use the Automated Commercial Environment (ACE). CBP is proposing that this information collection be extended with a change to the burden hours resulting from the addition of a new application for brokers, importers, sureties, attorneys and other parties to establish an ACE Portal account to file protests. There are no proposed changes to the existing ACE Portal application for imported merchandise. This document is published to obtain comments from the public and affected agencies.

DATES: Written comments should be received on or before September 23, 2016 to be assured of consideration.

ADDRESSES: Interested persons are invited to submit written comments on this proposed information collection to the Office of Information and Regulatory Affairs, Office of Management and Budget. Comments should be addressed to the OMB Desk Officer for Customs and Border Protection, Department of Homeland Security, and sent via electronic mail to oira_submission@omb.eop.gov or faxed to (202) 395-5806.

FOR FURTHER INFORMATION CONTACT: Requests for additional information should be directed to Paperwork Reduction Act Officer, U.S. Customs and Border Protection, Regulations and Rulings, Office of Trade, 90 K Street NE., 10th Floor, Washington, DC 20229-1177, or via email (CBP_PRA@cbp.dhs.gov). Please note contact information provided here is solely for questions regarding this notice. Individuals seeking information about other CBP programs please contact the CBP National Customer Service Center at 877-227-5511, (TTY) 1-800-877-8339, or CBP Web site at https://www.cbp.gov/. For additional help: https://help.cbp.gov/app/home/search/1.

SUPPLEMENTARY INFORMATION: This proposed information collection was previously published in the Federal Register (81 FR 38727) on June 14, 2016, allowing for a 60-day comment period. This notice allows for an additional 30 days for public comments. This process is conducted in accordance with 5 CFR 1320.10. CBP invites the general public and other Federal agencies to comment on proposed and/or continuing information collections pursuant to the Paperwork Reduction Act of 1995 (Public Law 104-13; 44 U.S.C. 3507). The comments should address: (a) Whether the collection of information is necessary for the proper performance of the functions of the agency, including whether the information shall have practical utility; (b) the accuracy of the agency's estimates of the burden of the collection of information; (c) ways to enhance the quality, utility, and clarity of the information to be collected; (d) ways to minimize the burden, including the use of automated collection techniques or the use of other forms of information technology; and (e) the annual costs to respondents or record keepers from the collection of information (total capital/startup costs and operations and maintenance costs). The comments that are submitted will be summarized and included in the CBP request for OMB approval. All comments will become a matter of public record. In this document, CBP is soliciting comments concerning the following information collection:

Title: Application to Use the Automated Commercial Environment (ACE).

OMB Number: 1651-0105.

Abstract: As of July 23, 2016, the Automated Commercial Environment (ACE) is the sole CBP-authorized electronic data interchange (EDI) system for processing electronic entry and entry summary filings of certain entry types. Pursuant to Executive Order 13659, a deadline of December 31, 2016, was established for participating Federal agencies to have capabilities, agreements, and other requirements in place to utilize the International Trade Data System (ITDS) and supporting systems, such as ACE, as the primary means of receiving from users the standard set of data and other relevant documentation (exclusive of applications for permits, licenses, or certifications) required for the release of imported cargo and clearance of cargo for export. See 79 FR 10655 (February 25, 2014). ACE supports government agencies and the trade community with border-related missions with respect to moving goods across the border efficiently and securely. Once ACE is fully implemented, all related CBP trade functions and the trade community will be supported from a single common user interface.

In order to establish an ACE Portal account, participants submit information such as their name, their employer identification number (EIN) or social security number, and if applicable, a statement certifying their capability to connect to the Internet. This information is submitted through the ACE Secure Data Portal which is accessible at: http://www.cbp.gov/trade/automated.

CBP is proposing to add the capability of electronically filing protests to ACE. A protest is a procedure whereby a private party may administratively challenge a CBP decision regarding imported merchandise and certain other CBP decisions. Trade members wishing to establish a protest filer account will need to submit the following data elements:

1. Organization Information

a. Protest Filer Number (EIN, SSN, or CBP Assigned Number)

b. Organization Name

c. Organization Type

d. End of Fiscal Year (month and day)

e. Mailing Address

2. ACE Account Owner Information

a. Name

b. Date of Birth

c. Email Address

d. Telephone Number

e. Fax Number (optional)

f. Account Owner address if different from Company Address

3. Filing Notification Point of Contact

a. Name

b. Email address

Current Actions: CBP is proposing that this information collection be extended with a change to the burden hours resulting from the addition of a new application for protest filers to establish an ACE Portal account. There are no proposed changes to the existing ACE Portal application, or changes to the burden hours, for other ACE accounts.

Type of Review: Extension (with change).

Affected Public: Businesses.

Application to ACE (Import)

Estimated Number of Respondents: 21,100.

Estimated Number of Total Annual Responses: 21,100.

Estimated Time per Response: .33 hours.

Estimated Total Annual Burden Hours: 6,963.

Application to ACE (Export)

Estimated Number of Respondents: 9,000.

Estimated Number of Total Annual Responses: 9,000.

Estimated Time per Response: .066 hours.

Estimated Total Annual Burden Hours: 594.

Application to ACE (Protest)

Estimated Number of Respondents: 3,750.

Estimated Number of Total Annual Responses: 3,750.

Estimated Time per Response: .066 hours.

Estimated Total Annual Burden Hours: 248.

Dated: August 18, 2016.
Seth Renkema,
Branch Chief, Economic Impact Analysis Branch, U.S. Customs and Border Protection.

[FR Doc. 2016-20184 Filed 8-23-16; 8:45 am]

BILLING CODE 9111-14-P